DEPARTMENT OF HEALTH AND HUMAN SERVICES

Agency for Healthcare Research and Quality

Agency Information Collection activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: “Evaluation of the Implementation and Impact of Pay-for-Quality Programs.” In accordance with the Paperwork Reduction Act of 1995, Public Law 104-13 (44 U.S.C. 3506(c)(2)(A)), AHRQ invites the public to comment on this proposed information collection.

DATES: Comments on this notice must be received by December 26, 2006.

ADDRESSES: Written comments should be submitted to: Doris Lefkowitz, Reports Clearance Officer, AHRQ, 540 Gaither Road, Room # 5036, Rockville, MD 20850.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Evaluation of the Implementation and Impact of Pay-for-Quality (P4Q) Programs.”

The P4Q Evaluation is a multi-method research project designed to evaluate the implementation and impact of P4Q programs on physicians across three programs operating in health care safety net settings. The P4Q programs participating in the evaluation are offering their health care providers financial incentives to achieve predefined quality targets. Data collected as part of this evaluation will have direct operational relevance to payers and providers regarding the value and challenges of P4Q programs in safety net settings. The P4Q evaluation is designed to assess whether P4Q programs in such settings appear to improve quality on the measures that are the focus of the programs and also whether the programs lead to unintended consequences. the P4Q evaluation will also seek to identify design and implementation practices that are likely to increase as well as decrease the risks of negative outcomes resulting from the implementation of P4Q programs in safety net settings.

Data collection in the P4Q evaluation will be approved by the Boston University's Medical Campus Institutional Review Board. It will be conducted in accordance with the Health Insurance Protection and Portability Act (HIPAA) Privacy Rule and with the Protection of Human Subjects regulations, 45 CFR part 46. In addition, the identifiable data collected in this study about provider organizations and individuals will only be used for the above-stated purposes and will be protected in accordance with the AHRQ confidentiality statute, section 934(c) of the Public Health Service Act (42 U.S.C. 299c-3(c)).

Methods of Collection

The evaluation will use several methods to examine P4Q programs in safety net settings, including a survey and key informant interviews. Survey data will be obtained from physicians participating in P4Q programs using a confidential mailed questionnaire. The key informant interviews will consist of 35-minute semi-structured interviews with physician organization executives, practice leaders, physicians, and other senior managers in each study setting regarding program design, implementation, and impact. The research project investigators will interview up to six informants at each site.

Estimated Annual Respondent Burden

The table below indicates that total time burden required to obtain all of the data required to meet the study's objectives. It does not include time required to analyze the data and prepare it for reporting and publication.

Type of respondent | Number of respondents | Number of responses per respondent | Estimated time per respondent (hours) | Estimated total burden (hours) | Estimated annual cost to the government
Physicians | 216 | 1 | 0.25 hours (15 minutes) | 54 | $5,322.12 to cover costs of responding to survey.
Practice executives and other senior managers | 24 | 1 | 0.58 hours (35 minutes) | 14 | $841.35 to cover costs of participating in in-person interviews.
Total |  |  |  | 68 | $6,163.47

Estimated Costs to the Federal Government

The total cost to the government for this activity is estimated to be $193,941. This funding will be used to support survey administration costs, salary and fringe benefits for the research team relating to the design and administration of the survey and informant interviews, and costs for two members of the research team to travel to each site for the informant interviews. The project will attempt to minimize burden to physician survey respondents by distributing surveys at medical staff meetings.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 10, 2006.
Carolyn M. Clancy,
Director.

[FR Doc. 06-8831 Filed 10-23-06; 8:45am]

BILLING CODE 4160-90-M